FEDERAL COMMUNICATIONS COMMISSION

47 CFR Part 73

[DA 01-63, MM Docket No. 98-284, RM-9697]

Radio Broadcasting Services; Galveston and Missouri City, TX

AGENCY: Federal Communications Commission.

ACTION: Proposed rule; denial of petition.

SUMMARY: This document denies a Petition for Rule Making filed by KQQK License, Inc. proposing the reallotment of Channel 293C from Galveston to Missouri City, Texas, and modification of its Station KQQK-FM license to specify Missouri City as the community of license. See 65 FR 57799, September 26, 2000.

FOR FURTHER INFORMATION CONTACT: Robert Hayne, Mass Media Bureau, (202) 418-2177.

SUPPLEMENTARY INFORMATION: This is a synopsis of the Commission's Report and Order in MM Docket No. 99-284, adopted January 10, 2001, and released January 12, 2001. The full text of this decision is available for inspection and copying during normal business hours in the FCC Reference Information Center at Portals ll, CY-A257, 445 12th Street, SW, Washington, DC. The complete text of this decision may also be purchased from the Commission's copy contractor, International Transcription Service, Inc., (202) 857-3805, 1231 M Street, NW, Washington, DC 20036.

Federal Communications Commission.
John A. Karousos,
Chief, Allocations Branch, Policy and Rules Division, Mass Media Bureau.

[FR Doc. 01-2283 Filed 1-25-01; 8:45 am]

BILLING CODE 6712-01-U